DEPARTMENT OF HOUSING AND URBAN DEVELOPMENT

[Docket No. FR-5500-FA-08]

Announcement of Funding Awards for the Public and Indian Housing Resident Opportunity and Self-Sufficiency (ROSS); Service Coordinators Program for Fiscal Year 2011

AGENCY: Assistant Secretary for the Office of Public and Indian Housing, HUD.

ACTION: Announcement of Funding Awards.

SUMMARY: In accordance with Section 102(a)(4)(C) of the Department of Housing and Urban Development Reform Act of 1989, this announcement notifies the public of funding decisions made by the Department for funding under the FY 2011 Notice of Funding Availability (NOFA) for the Public and Indian Housing Resident Opportunity and Self-Sufficiency (ROSS)—Service Coordinators Program for Fiscal Year 2011. This announcement contains the consolidated names and addresses of those award recipients selected for funding based on the funding priority categories established in the NOFA.

FOR FURTHER INFORMATION CONTACT: Joseph E. Taylor, Grant Management Center, Office of Public and Indian Housing, Department of Housing and Urban Development, 451 Seventh Street SW., B133 Potomac Center, 3rd Floor, Washington, DC 20410, telephone number 202-475-8852. For the hearing or speech impaired, these numbers may be accessed via TTY (text telephone) by calling the Federal Relay Service at 800-877-8339. (Other than the “800” TTY number, these telephone numbers are not toll-free.)

SUPPLEMENTARY INFORMATION: The purpose of the Public and Indian Housing Resident Opportunity and Self-Sufficiency (ROSS) Service Coordinators program is to provide grants to public housing agencies (PHAs), tribes/tribally designated housing entities (TDHEs), Resident Associations (RAs), and nonprofit organizations (including grassroots, faith-based and other community-based organizations) for the provision of a Service Coordinator to coordinate supportive services and other activities designed to help Public and Indian housing residents attain economic and housing self-sufficiency. This program works to promote the development of local strategies to coordinate the use of assistance under the Public Housing program with public and private resources, for supportive services and resident empowerment activities. A Service Coordinator ensures that program participants are linked to the supportive services they need to achieve self-sufficiency or remain independent.

On April 21, 2011, HUD posted its FY 2011 Public and Indian Housing Resident Opportunity and Self-Sufficiency (ROSS) Service Coordinators NOFA. The NOFA made approximately $35 million available under the Department of Defense and Full-Year Continuing Appropriations Act, 2011 (Pub. L. 112-10, approved April 15, 2011). The Department reviewed, evaluated, and scored the applications received based on the criteria published by the FY 2011 NOFA and has funded the applications announced in Appendix A. In accordance with Section 102(a)(4)(C) of the Department of Housing and Urban Development Reform Act of 1989 (42 U.S.C. 3545), the Department is publishing the names, addresses, and amounts of the 110 awards made under the Public and Indian Housing Resident Opportunity and Self-Sufficiency (ROSS)—Service Coordinators Program competition.

Dated: February 24, 2012.
Sandra B. Henriquez,
Assistant Secretary for Public and Indian Housing.

Appendix A

Fiscal Year 2011 Funding Awards for the Public and Indian Housing Resident Opportunity and Self-Sufficiency (ROSS)—Service Coordinators Program
Recipient | Address | City | State | Zip code | Amount
Huntsville Housing Authority | 200 Washington Street | Huntsville | AL | 35804 | $462,000
Prichard Housing Authority | 200 West Prichard Avenue | Prichard | AL | 36610 | 240,000
Moenkopi Senior Center, Inc. | N.E. Hopi Housing—Highway 160 | Tuba | AZ | 86045 | 240,000
Pinal County Housing and Community Development | 970 North Eleven Mile Corner Road | Casa Grande | AZ | 85194 | 186,000
White Mountain Apache Housing Authority | P.O. Box 1270, 50 West Chinatown Street | Whiteriver | AZ | 85941 | 480,000
Area Housing Authority of the County of Ventura (AHA) | 1400 West Hillcrest Drive | Newbury Park | CA | 91320 | 240,000
Chico Rancheria Housing Corporation | 585 East Avenue | Chico | CA | 95926 | 224,360
Housing Authority of the City of Sacramento | 801 12th Street | Sacramento | CA | 95814 | 480,000
Housing Authority of the City of San Buenaventura | 995 Riverside Street | Ventura | CA | 93001 | 240,000
Housing Authority of the County of Riverside | 5555 Arlington Avenue | Riverside | CA | 92504 | 240,000
Housing Authority of the County of Santa Barbara | 815 West Ocean Avenue | Lompoc | CA | 93436 | 240,000
Madera, City of | 205 North G Street | Madera | CA | 93637 | 209,303
The Housing Authority of the County of Los Angeles | 2 Coral Circle | Monterey Park | CA | 91755 | 720,000
Adams County Housing Authority | 7180 Colorado Boulevard | Commerce City | CO | 80022 | 207,450
Walsh Manor Local Resident Council | 1790 West Mosier Place | Denver | CO | 80223 | 200,778
Westridge Dispersed West Local Resident Council | 3550 West 13th Avenue, A-1 | Denver | CO | 80204 | 200,778
Westwood Dispersed South Local Resident Council | 855 South Irving Street | Denver | CO | 80219 | 200,778
Bristol Housing Authority | 164 Jerome Street | Bristol | CT | 6010 | 240,000
Housing Authority of the City of Ansonia | 36 Main Street | Ansonia | CT | 6401 | 240,000
Housing Authority of the City of Bridgeport | 150 Highland Avenue | Bridgeport | CT | 6604 | 467,388
Broward County Housing Authority | 4780 North State Road 7 | Lauderdale Lakes | FL | 33319 | 240,000
Housing Authority of Lakeland | 430 Hartsell Avenue | Lakeland | FL | 33815 | 140,838
Housing Authority of the County of Flagler, Florida | P.O. Box 188 | Bunnell | FL | 32110 | 216,000
Lee County Housing Authority | 14170 Warner Circle | North Fort Myers | FL | 33903 | 231,000
The Housing Authority of the City of Titusville | 524 South Hopkins Avenue | Titusville | FL | 32796 | 170,636
Northwest Georgia Housing Authority | 800 North Fifth Avenue | Rome | GA | 30162 | 367,094
City of Des Moines Municipal Housing Agency | 100 East Euclid Avenue, Suite 101 | Des Moines | IA | 50313 | 232,093
Eastern Iowa Regional Housing Authority | 7600 Commerce Park | Dubuque | IA | 52002 | 240,000
Nampa Housing Authority | 211 19th Avenue | Nampa | ID | 83687 | 203,125
Nez Perce Tribal Housing Authority | P.O. Box 188 | Lapwai | ID | 83540 | 240,000
Macoupin County Housng Authority | P.O. Box 226, 760 Anderson Street | Carlinville | IL | 62626 | 135,421
Menard County Housing Authority | 101 West Sheridan Road | Petersburg | IL | 62675 | 130,572
Housing Authority of the City of Bloomington | 1007 Summit Street | Bloomington | IN | 47404 | 172,500
New Albany Housing Authority | P.O. Box 11 | New Albany | IN | 47150 | 376,000
Bryant Way Resident Council | 247 Double Springs Road | Bowling Green | KY | 42101 | 181,607
Gordon Avenue/Summit View Resident Council | 247 Double Springs Road | Bowling Green | KY | 42101 | 148,726
Housing Authority of Floyd County | 402 John M. Stumbo Drive | Langley | KY | 41645 | 147,728
Housing Authority of Madisonville | 211 Pride Avenue | Madisonville | KY | 42431 | 134,968
Housing Authority of Owensboro | 2161 East 19th Street | Owensboro | KY | 42303 | 203,729
Louisville Metro Housing Authority | 420 South Eighth Street | Louisville | KY | 40203 | 720,000
Fall River Housing Joint Tenant Council | 220 Johnson Street | Fall River | MA | 2723 | 158,000
New Bedford Housing Authority | P.O. Box 2081, 134 South Second Street | New Bedford | MA | 2740 | 480,000
Norwood Housing Authority | 40 William Shyne Circle | Norwood | MA | 2062 | 240,000
Old Colony Elder Services, Inc. | 144 Main Street | Brockton | MA | 2301 | 240,000
The Commonwealth Tenants Association | 35 Fidelis Way | Brighton | MA | 2135 | 240,000
Housing Authority of the City of Cumberland, MD | 635 East First Street | Cumberland | MD | 21502 | 203,659
Resident Services, Inc. | 417 East Fayette Street, Room 923 | Baltimore | MD | 21202 | 720,000
Robinwood Tenant Council | 1468 Tyler Avenue | Annapolis | MD | 21403 | 240,000
Wyman House Tenant Council | 123 West 29th Street | Baltimore | MD | 21218 | 240,000
Lewiston Housing Authority | 1 College Street | Lewiston | ME | 4240 | 182,030
Portland Housing Authority | 14 Baxter Boulevard | Portland | ME | 4101 | 236,967
City Wide Resident Council of the City of St. Paul Minnesota | 555 Wabasha Street North, Suite 400 | Saint Paul | MN | 55102 | 702,000
Northwest Minnesota Multi-County HRA | P.O. Box 128, 205 Garfield Avenue | Mentor | MN | 56736 | 240,000
Housing Authority of the City of Columbia | 201 Switzler Street | Columbia | MO | 65203 | 197,195
Housing Authority of the City of Yazoo City | 121 Lindsey Lawn Drive | Yazoo City | MS | 39194 | 164,000
Missoula Housing Authority | 1235 34th Street | Missoula | MT | 59801 | 240,000
Burlington Development Corporation | P.O. Box 2380, 133 North Ireland Street | Burlington | NC | 27217 | 235,000
Hickory Housing Authority | P.O. Box 2927, 841 South Center Street | Hickory | NC | 28602 | 201,000
Housing Authority of the City of Greensboro | P.O. Box 21287, 450 North Church Street | Greensboro | NC | 27420 | 453,794
North Wilkesboro Housing Authority | 101 Hickory Street | North Wilkesboro | NC | 28659 | 198,000
Statesville Housing Authority | 110 West Allison Street | Statesville | NC | 28677 | 204,000
Fargo Housing and Redevelopment Authority | 325 Broadway | Fargo | ND | 58102 | 205,106
Cerebral Palsy Association of Middlesex County, Inc. | 10 Oak Drive | Edison | NJ | 8837 | 240,000
Housing Authority of the City of Jersey City | 400 U.S. Highway #1, (MARION GARDENS) | Jersey City | NJ | 7306 | 480,000
Housing Authority of the City of Passaic | 52 Aspen Place | Passaic | NJ | 7055 | 240,000
Housing Authority of the City of Rahway | 165 East Grand Avenue | Rahway | NJ | 7065 | 240,000
Phillipsburg Housing Authority | 530 Heckman Street | Phillipsburg | NJ | 8865 | 240,000
Southern Nevada Regional Housing Authority | 340 North 11th Street | Las Vegas | NV | 89101 | 702,000
Albany Housing Authority | 200 South Pearl Street | Albany | NY | 12202 | 480,000
Buffalo Municipal Housing Authority | 300 Perry Street | Buffalo | NY | 14204 | 720,000
Municipal Housing Authority for the City of Yonkers | P.O. Box 35, 1511 Central Park Avenue | Yonkers | NY | 10710 | 480,000
Niagara Falls Housing Authority | 744 Tenth Street | Niagara Falls | NY | 14301 | 236,784
Ocean Bay Community Development Corporation | 434 Beach 54th Street | Arverne | NY | 11692 | 720,000
Rochester Housing Authority | 675 West Main Street | Rochester | NY | 14611 | 683,484
Syracuse Housing Authority | 516 Burt Street | Syracuse | NY | 13202 | 480,000
White Plains Housing Authority | 223 Dr. Martin Luther King Jr. Boulevard | White Plains | NY | 10601 | 235,000
Akron Metropolitan Housing Authority | 100 West Cedar Street | Akron | OH | 44307 | 650,000
Lucas Metropolitan Housing Authority | 435 Nebraska Avenue | Toledo | OH | 43604 | 625,545
Springfield Metropolitan Housing Authority | 101 West High Street | Springfield | OH | 45502 | 121,000
Zanesville Metropolitan Housing Authority | 407 Pershing Road | Zanesville | OH | 43701 | 240,000
Housing Authority of the City of Tulsa | 415 East Independence Street | Tulsa | OK | 74106 | 344,526
Housing Authority of Clackamas County | P.O. Box 1510, 13930 South Gain Street | Oregon City | OR | 97045 | 240,000
Housing Authority of Lincoln County | P.O. Box 1470, 1039 NW Nye Street | Newport | OR | 97365 | 240,000
Housing Authority of Portland | 135 SW Ash Street | Portland | OR | 97204 | 720,000
Allegheny County Housing Authority | 625 Stanwix Street, 12th Floor | Pittsburgh | PA | 15222 | 702,000
Harrisburg Housing Authority | 351 Chestnut Street | Harrisburg | PA | 17101 | 480,000
Philadelphia Housing Authority | 12 South 23rd Street, 6th Floor | Philadelphia | PA | 19103 | 676,740
Westmoreland County Housing Authority | 154 South Greengate Road | Greensburg | PA | 15601 | 324,272
Housing Authority of the City of Providence | 100 Broad Street | Providence | RI | 2903 | 701,265
Housing Authority of Greenville | 511 Augusta Street | Greenville | SC | 29605 | 240,000
Housing Authority of the City of Columbia, SC | 1917 Harden Street | Columbia | SC | 29204 | 367,854
Crow Creek Sioux Tribe | P.O. Box 19 | Fort Thompson | SD | 57339 | 170,140
Sisseton Wahpeton Housing Authority | 605 Lydia Goodsell Street | Sisseton | SD | 57262 | 163,995
Columbia Housing and Redevelopment Corporation | 201 Dyer Street | Colombia | TN | 38401 | 240,000
Jackson Housing Authority | 125 Preston Street | Jackson | TN | 38301 | 240,000
Johnson City Public Housing Authority | 901 Pardee Street | Johnson City | TN | 37601 | 237,980
Housing Authority of City of Fort Worth | 1201 East 13th Street | Fort Worth | TX | 76102 | 352,376
Houston Housing Authority | 2640 Fountainview, Suite 400 | Houston | TX | 77057 | 720,000
Cardinal Village Tenant Association, Inc. | 651 Cardinal Place | Danville | VA | 24541 | 207,688
Chesapeake Redevelopment & Housing Authority | 1468 South Military Highway | Chesapeake | VA | 23320 | 240,000
Danville Redevelopment and Housing Authority | 135 Jones Crossing | Danville | VA | 24541 | 220,174
Pleasant View Tenant Association, Inc. | 101 Pleasant View Avenue | Danville | VA | 24541 | 207,688
Burlington Housing Authority | 65 Main Street | Burlington | VT | 5401 | 222,000
Housing Authority of the City of Tacoma | 902 South L Street | Tacoma | WA | 98405 | 240,000
Arlington Court Resident Organization | c/o Kenneth Barbeau, Contract Administrator, HACM, 650 West Reservoir Avenue | Milwaukee | WI | 53212 | 237,619
Cherry Court Resident Organization | c/o Kenneth Barbeau, Contract Administrator, HACM, 650 West Reservoir Avenue | Milwaukee | WI | 53212 | 237,619
Riverview Resident Organization | c/o Kenneth Barbeau, Contract Administrator, HACM, 650 West Reservoir Avenue | Milwaukee | WI | 53212 | 239,450
S.E.T. Ministry, Inc. | 2977 North 50 Street | Milwaukee | WI | 53210 | 239,450
Charleston-Kanawha Housing Authority | 1525 Washington Street W | Charleston | WV | 25387 | 204,000
The Huntington West Virginia Housing Authority | 300 West Seventh Avenue | Huntington | WV | 25701 | 164,384

[FR Doc. 2012-5888 Filed 3-9-12; 8:45 am]

BILLING CODE 4210-67-P